EXPORT-IMPORT BANK OF THE UNITED STATES

Economic Impact Policy

This notice is to inform the public that the Export-Import Bank of the United States has received an application for a $35 million transaction specific working capital guarantee to support the export of approximately $63.5 million worth of sulphur purification equipment and services to Iraq. The repayment term of the working capital guarantee is 24 months. The U.S. exports will enable the Iraqi mining company to establish a maximum production capacity of 500,000 metric tons of sulphur per year. Available information indicates that all of the Iraqi sulphur production will be sold domestically in Iraq. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-10664 Filed 5-2-12; 8:45 am]

BILLING CODE 6690-01-P